DEPARTMENT OF STATE

[Public Notice 6309]

Shipping Coordinating Committee; Notice of Subcommittee Meeting

The Shipping Coordinating Committee (SHC), through its Subcommittee for the Prevention of Marine Pollution, will conduct an open meeting beginning at 9:30 a.m. on Thursday, September 25th, 2008, in Room 4202 (Proceres room) of the United States Coast Guard Headquarters Building, 2100 2nd Street, SW., Washington, DC 20593. The primary purpose of the meeting is to prepare for the 58th Session of the International Maritime Organization's (IMO) Marine Environment Protection Committee (MEPC 58) to be held at IMO Headquarters in London, England from October 6th to 10th, 2008. The primary matters to be considered include:

—Harmful aquatic organisms in ballast water;

—Recycling of ships;

—Prevention of air pollution from ships;

—Consideration and adoption of amendments to mandatory instruments;

—Interpretation and amendments of MARPOL 73/78 and related instruments;

—Implementation of the International Convention on Oil Pollution Preparedness, Response and Cooperation (OPRC) Convention and the OPRC-Hazardous Noxious Substance (OPRC-HNS) Protocol and relevant conference resolutions;

—Identification and protection of Special Areas and Particularly Sensitive Sea Areas;

—Inadequacy of reception facilities;

—Reports of sub-committees;

—Work of other bodies;

—Status of Conventions;

—Harmful anti-fouling systems for ships;

—Promotion of implementation and enforcement of MARPOL 73/78 and related instruments;

—Technical Cooperation program;

—Role of the human element issues;

—Formal Safety Assessment;

—Development of a guidance document for minimizing the risk of ship strikes with cetaceans;

—Work program of the Committee and subsidiary bodies;

—Application of the Committees' Guidelines; and

—Election of the chairman and vice-chairman for 2009.

Please note that hard copies of documents associated with MEPC 58 will not be provided at this meeting. To request documents in electronic format (via e-mail or CD-ROM), please write to the address provided below, or request documents via the following Internet link: http://www.uscg.mil/hq/g-m/mso/IMOMEPC.htm.

Members of the public may attend this meeting up to the seating capacity of the room. Interested persons may seek information by writing to Lieutenant Commander Brian Moore, Commandant (CG-5224), U.S. Coast Guard Headquarters, 2100 Second Street, SW., Room 1601, Washington, DC 20593-0001 or by calling (202) 372-1434.

Dated: August 25, 2008.
Mark Skolnicki,
Executive Secretary, Shipping Coordinating Committee, Department of State.

[FR Doc. E8-20656 Filed 9-4-08; 8:45 am]

BILLING CODE 4710-09-P